DEPARTMENT OF HEALTH AND HUMAN SERVICES

Centers for Medicare & Medicaid Services

42 CFR Part 413

CMS-1883-F3

RIN 0938-AI80

Medicare Program; Revision of the Procedures for Requesting Exceptions to Cost Limits for Skilled Nursing Facilities and Elimination of Reclassifications; Technical Correction

AGENCY: Centers for Medicare & Medicaid Services (CMS), HHS.

ACTION: Technical correction.

SUMMARY: In the October 10, 2000 issue of the Federal Register (65 FR 60104), we published a technical correction to the August 5, 1999 issue of the Federal Register (64 FR 42610). This technical correction amends the regulations text to correct an inadvertent error that occurred when the Code of Federal Regulations (CFR) was published. It also explains a technical correction that is accurately reflected in the current language as it appears in the CFR, as it was intended in the correction notice of October 10, 2000.

EFFECTIVE DATE: September 7, 1999.

FOR FURTHER INFORMATION CONTACT: Julie Stankivic, (410) 786-5725.

SUPPLEMENTARY INFORMATION:

Background

In the October 10, 2000 technical correction (65 FR 60104), we amended the regulations text to make technical corrections to those parts of the regulation unrelated to the skilled nursing facilities (SNFs) exception procedures that were inadvertently changed. In the regulations text corrected under 42 CFR 413.30(d), we stated that we were removing the words “the type of” from the first sentence. It was our intention to remove these words; however, we referenced the first sentence, and these words were found in the second sentence. We note that the regulations text as published in the Code of Regulations (CFR) actually accurately reflects the change that was intended in the correction notice of October 10, 2000. Therefore, we are not amending the regulations text in this technical correction.

In addition, in the most recent publication of the CFR in § 413.30(d), the word “as” has been inadvertently removed from the third sentence. In the October 10, 2000 technical correction, we did not intend to make any changes that would have resulted in the removal of the word “as” after the phrase “has operated” in the third sentence of § 413.30(d). We are reinserting the word as no change was intended.

Provisions of the Technical Correction

We are making the necessary technical correction to the regulations text to restore the text to conform to the stated purpose of the correction notice.

Waiver of Notice of Proposed Rulemaking

We ordinarily publish a notice of proposed rulemaking in the Federal Register to provide a period for public comment before the provisions of a rule such as this take effect. We can waive this procedure, however, if we find good cause that a notice and comment procedure is impracticable, unnecessary, or contrary to the public interest and incorporate a statement of the finding and its reasons in the notice issued.

We find it unnecessary to undertake notice and comment rulemaking because this document merely provides a technical correction to the regulations and does not make any substantive changes to the regulations. Therefore, for good cause, we waive notice and comment procedures.

List of Subjects in 42 CFR Part 413

Health facilities, Kidney diseases, Medicare, Puerto Rico, Reporting and record keeping requirements.

Corrections to the Regulations Text

Accordingly, 42 CFR part 413 is corrected by making the following correcting amendment:

PART 413-PRINCIPLES OF REASONABLE COST REIMBURSEMENT; PAYMENT FOR END-STAGE RENAL DISEASE SERVICES; PROSPECTIVELY DETERMINED PAYMENT RATES FOR SKILLED NURSING FACILITIES

1. The authority citation for part 413 continues to read as follows:

Authority: Secs. 1102, 1812(d), 1814(b), 1815, 1833(a), (i), and (n), 1871, 1881, 1883, and 1886 of the Social Security Act (42 U.S.C. 1302, 1395d(d), 1395f(b), 1395(g), 13951(a), (i), and (n), 1395hh, 1395rr, 1395tt, and 1395ww).

§ 413.30 [Corrected]

2. In paragraph (d) the word “as” is added after the phrase “has operated” in the third sentence.

(Catalog of Federal Domestic Assistance Program No. 93.773 Medicare—Hospital Insurance)
Dated: April 25, 2002.
Ann C. Agnew,
Executive Secretary to the Department.

[FR Doc. 02-17620 Filed 7-25-02; 8:45 am]

BILLING CODE 4120-01-P